DEPARTMENT OF EDUCATION

Applications for New Awards; Native American-Serving Nontribal Institutions Program

AGENCY: Office of Postsecondary Education, Department of Education.

ACTION: Notice; correction.

SUMMARY: On February 5, 2020, we published in the Federal Register a notice inviting applications (NIA) for the Native American-Serving Nontribal Institutions (NASNTI) Program for fiscal year (FY) 2020. This notice corrects the deadline for transmittal of applications and the deadline for intergovernmental review. All other requirements and conditions in the notice remain the same.

DATES: The correction is applicable March 6, 2020.

Deadline for Transmittal of Applications: March 23, 2020.

Deadline for Intergovernmental Review: May 22, 2020.

FOR FURTHER INFORMATION CONTACT: Don Crews, U.S. Department of Education, 400 Maryland Avenue SW, Room 250-14, Washington, DC 20202-4260. Telephone: (202) 453-7920. Email: Don.Crews@ed.gov.

If you use a telecommunications device for the deaf (TDD) or a text telephone (TTY), call the Federal Relay Service (FRS), toll free, at 1-800-877-8339.

SUPPLEMENTARY INFORMATION: On February 5, 2020, we published in the Federal Register a notice inviting applications for the NASNTI Program (85 FR 6537). This notice revises the deadline for transmittal of applications and the deadline for intergovernmental review to extend both those deadlines. All other corrections and conditions in the notice remain the same.

We are extending this competition to allow applicants more time to prepare and submit their applications after requests from multiple applicants. Therefore, we are extending the competition to allow applicants to submit or resubmit applications that meet all of the requirements in the NIA. Applicants that have already submitted applications are encouraged to review their applications and determine whether they have met all eligibility and application requirements.

As stated above, applicants may resubmit applications that may not have met all of the requirements in the NIA. Applicants that have already submitted timely applications that meet all of the requirements of the NIA do not have to resubmit their applications. If a new application is not submitted, the Department will use the application that has already been submitted.

Revision

In FR Doc. 2020-02215, in the Federal Register of February 5, 2020, we make the following corrections:

(a) On page 6537, in the first column, under “Dates” and after “Deadline for Transmittal of Applications”, we remove the date “March 6, 2020” and replace it with the date “March 23, 2020”.

(b) On page 6537, in the first column, under “Dates” and after “Deadline for Intergovernmental Review”, we remove the date “May 5, 2020” and replace it with the date “May 22, 2020”.

Accessible Format: Individuals with disabilities can obtain this notice and a copy of the application in an accessible format (e.g., braille, large print, audio tape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Robert L. King,
Assistant Secretary for the Office of Postsecondary Education.

[FR Doc. 2020-04651 Filed 3-5-20; 8:45 am]

BILLING CODE 4000-01-P